DEPARTMENT OF HEALTH AND HUMAN SERVICES

Health Resources and Services Administration

Advisory Committee on Training in Primary Care Medicine and Dentistry

AGENCY: Health Resources and Service Administration (HRSA), Department of Health and Human Services (HHS).

ACTION: Notice of Federal Advisory Committee meeting.

SUMMARY: In accordance with the Federal Advisory Committee Act, this notice announces that the Advisory Committee on Training in Primary Care Medicine and Dentistry (ACTPCMD) will hold a public meeting.

DATES: Thursday, May 3, 2018, from 8:30 a.m. to 5:00 p.m. and Friday, May 4, 2018, from 8:30 a.m. to 2:00 p.m. ET.

ADDRESSES: The address for the meeting is 5600 Fishers Lane, Rockville, Maryland 20857, Room 5E29. The conference call-in number: 1-800-857-9729 and Passcode: 1318150. The webinar link is https://hrsa.connectsolutions.com/actpcmd.

FOR FURTHER INFORMATION CONTACT: Anyone requesting information regarding the ACTPCMD should contact Dr. Kennita R. Carter, Designated Federal Official (DFO), Division of Medicine and Dentistry, Bureau of Health Workforce, HRSA, in one of three ways: (1) Send a request to the following address: Dr. Kennita R. Carter, DFO, Division of Medicine and Dentistry, HRSA, 5600 Fishers Lane, Room 15N-116, Rockville, MD 20857; (2) call 301-945-3505; or (3) send an email to KCarter@hrsa.gov.

SUPPLEMENTARY INFORMATION: ACTPCMD provides advice and recommendations to the Secretary of the Department of Health and Human Services on policy, program development, and other matters of significance concerning the activities under section 747 of Title VII of the Public Health Service Act (PHSA). ACTPCMD prepares an annual report describing the activities of the Committee, including findings and recommendations made by the Committee concerning the activities under section 747, as well as training programs in oral health and dentistry. The annual report is submitted to the Secretary and ranking members of the Senate Committee on Health, Education, Labor and Pensions, and the House of Representatives Committee on Energy and Commerce. The Committee also develops, publishes, and implements performance measures and guidelines for longitudinal evaluations of programs authorized under Title VII, Part C, of the PHSA, and recommends appropriation levels for programs under this Part.

During the May 3-4, 2018, meeting, ACTPCMD will review the impact of the Title VII, Section 747 and oral health training programs, and make recommendations on funding and appropriation levels. In addition, the Committee will identify its strategic priorities for the coming year, and discuss issues related to pending Committee reports on the integration of behavioral health into primary care and oral health training, and clinical trainee and faculty well-being and resilience. Information about ACTPCMD and the agenda for this meeting is located on the ACTPCMD website at https://www.hrsa.gov/advisory-committees/primarycare-dentist/index.html. Please note that agenda items are subject to change as priorities dictate.

Members of the public will have the opportunity to provide comments. Public participants may submit written statements in advance of the scheduled meeting. Oral comments will be honored in the order they are requested and may be limited as time allows. Requests to make oral comments or provide written comments to the ACTPCMD should be sent to Dr. Carter, DFO, using the contact information above at least three business days prior to the meeting.

The building at 5600 Fishers Lane, Rockville, MD 20857, requires a security screening on entry. To facilitate access to the building, please contact Dr. Carter at the contact information listed above. Individuals who plan to attend and need special assistance, such as sign language interpretation or other reasonable accommodations, should notify Dr. Carter at the address and phone number listed above at least 10 days prior to the meeting.

Amy P. McNulty,
Acting Director, Division of the Executive Secretariat.

[FR Doc. 2018-07910 Filed 4-16-18; 8:45 am]

BILLING CODE 4165-15-P